DEPARTMENT OF TRANSPORTATION

Surface Transportation Board

[Docket No. AB 290 (Sub-No. 360X)]

Yadkin Railroad Company—Abandonment Exemption—in Stanly County, NC

Yadkin Railroad Company (YRC) ¹ has filed a verified notice of exemption under 49 CFR part 1152 subpart F—Exempt Abandonments to abandon a 4.14-mile line of railroad between milepost N 27.50 in North Albemarle and the end of the line at milepost N 31.64 in Albemarle, Stanly County, N.C. (the Line).² The Line traverses United States Postal Service Zip Code 28001.

¹ YRC is a wholly owned subsidiary of Norfolk Southern Railway Company.

² YRC states that the Line was the subject of a 2006 abandonment proceeding invoked under the class exemption procedures for rail lines that have been out of service for at least two years. Yadkin R.R.—Aban. Exemption—in Stanly Cnty., N.C., AB 290 (Sub-No. 281X) (STB served Nov. 14, 2006) (2006 Proceeding). YRC also states that the exemption that Yadkin had invoked in the 2006 Proceeding has lapsed and there has been no further service or requests for service since that time. Therefore, Yadkin has invoked the abandonment class exemption procedures anew here. YRC notes that the portion of the Line between milepost N 27.50, just south of Bethany Road, and milepost N 29.60 will be reclassified as industrial lead track excepted under 49 U.S.C. 10906. YRC also notes that the rail and track materials on the 2.04-mile portion of the Line between milepost N 29.60 and the end of the Line at milepost N 31.64 were removed in conjunction with the 2006 Proceeding and that, to the best of its knowledge, YRC complied with the salvage conditions imposed in that proceeding. See Yadkin R.R.—Aban. Exemption—in Stanly Cnty., N.C., AB 290 (Sub-No. 281X) (STB served Dec. 13, 2006).

YRC has certified that: (1) No local traffic has moved over the Line for at least two years; (2) no overhead traffic has moved over the Line for at least two years, and if there were any, it could be rerouted over other lines; (3) no formal complaint has been filed by a user of rail service on the Line (or by a state or local government entity acting on behalf of such user) regarding cessation of service over the Line and no such complaint is either pending with the Surface Transportation Board (Board) or with any U.S. District Court or has been decided in favor of complainant within the two-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on August 7, 2014, unless stayed pending reconsideration. Petitions to stay that do not involve environmental issues,³ formal expressions of intent to file an OFA under 49 CFR 1152.27(c)(2),⁴ and trail use/rail banking requests under 49 CFR 1152.29 must be filed by July 18, 2014. Petitions to reopen or requests for public use conditions under 49 CFR 1152.28 must be filed by July 28, 2014, with the Surface Transportation Board, 395 E Street SW., Washington, DC 20423-0001.

³ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁴ Each OFA must be accompanied by the filing fee, which is currently set at $1,600. See 49 CFR 1002.2(f)(25).

A copy of any petition filed with the Board should be sent to YRC's representative: William A. Mullins, Baker & Miller PLLC, 2401 Pennsylvania Ave. NW., Suite 300, Washington, DC 20037.

If the verified notice contains false or misleading information, the exemption is void ab initio.

YRC has filed a combined environmental and historic report that addresses the effects, if any, of the abandonment on the environment and historic resources. OEA will issue an environmental assessment (EA) by July 11, 2014. Interested persons may obtain a copy of the EA by writing to OEA (Room 1100, Surface Transportation Board, Washington, DC 20423-0001) or by calling OEA at (202) 245-0305. Assistance for the hearing impaired is available through the Federal Information Relay Service at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), YRC shall file a notice of consummation with the Board to signify that it has exercised the authority granted and fully abandoned the Line. If consummation has not been effected by YRC's filing of a notice of consummation by July 8, 2015, and there are no legal or regulatory barriers to consummation, the authority to abandon will automatically expire.

Board decisions and notices are available on our Web site at “www.stb.dot.gov.”

Decided: July 2, 2014.
By the Board, Rachel D. Campbell, Director, Office of Proceedings.
Derrick A. Gardner,
Clearance Clerk.

[FR Doc. 2014-15862 Filed 7-7-14; 8:45 am]

BILLING CODE 4915-01-P